DEPARTMENT OF HOMELAND SECURITY

Coast Guard

33 CFR Part 165

[Docket No. USCG-2023-0226]

Safety Zone; Fireworks Displays Within the Fifth Coast Guard District

AGENCY: Coast Guard, DHS.

ACTION: Notification of enforcement of regulation.

SUMMARY: The Coast Guard will enforce three separate safety zones for three associated fireworks displays at The Wharf DC. The fireworks displays will be on June 3, 2023, June 10, 2023, and June 23, 2023. Our regulation for Fireworks Displays within the Fifth Coast Guard District identifies the safety zone for these events in Washington, DC. During the enforcement period of each safety zone, vessels may not enter, remain in, or transit through the safety zone unless authorized to do so by the COTP or his representative, and vessels in the vicinity must comply with directions from the Patrol Commander or any Official Patrol displaying a Coast Guard ensign.

DATES: The regulation in 33 CFR 165.506 will be enforced for the location identified in line no. 1 of table 2 to 33 CFR 165.506(h)(2) from 7 p.m. until 11 p.m. on June 3, 2023, from 7 p.m. until 11 p.m. on June 10, 2023, and from 7 p.m. until 11 p.m. on June 23, 2023.

FOR FURTHER INFORMATION CONTACT: If you have questions about this notification of enforcement, call or email MST2 Courtney Perry, Sector Maryland-NCR, Waterways Management Division, U.S. Coast Guard: telephone 410-576-2596, email MDNCRMarineEvents@uscg.mil.

SUPPLEMENTARY INFORMATION: The Coast Guard will enforce the safety zone regulation for three separate fireworks displays at The Wharf DC from 7 p.m. to 11 p.m. on June 3, 2023, from 7 p.m. to 11 p.m. on June 10, 2023, and from 7 p.m. to 11 p.m. on June 23, 2023. This action is being taken to provide for the safety of life on navigable waterways during these events. Our regulation for Fireworks Displays within the Fifth Coast Guard District, § 165.506, specifies the location of the safety zones for the fireworks shows, which includes portions of the Washington Channel in the Upper Potomac River. During the enforcement period, as reflected in § 165.506(d), if you are the operator of a vessel in the vicinity of the safety zones, you may not enter, remain in, or transit through the safety zones unless authorized to do so by the COTP or his representative, and you must comply with direction from the Patrol Commander or any Official Patrol displaying a Coast Guard ensign.

In addition to this notification of enforcement in the Federal Register, the Coast Guard plans to provide notification of these enforcement periods via the Local Notice to Mariners and marine information broadcasts.

Dated: May 24, 2023.
David E. O'Connell,
Captain, U.S. Coast Guard, Captain of the Port, Sector Maryland-National Capital Region.

[FR Doc. 2023-11577 Filed 5-31-23; 8:45 am]

BILLING CODE 9110-04-P